DEPARTMENT OF COMMERCE

International Trade Administration

[A-570-972; A-583-848]

Certain Stilbenic Optical Brightening Agents From the People's Republic of China and Taiwan: Final Results of the Expedited Sunset Reviews of the Antidumping Duty Orders

AGENCY: Enforcement and Compliance, International Trade Administration, Department of Commerce.

SUMMARY: As a result of these sunset reviews, the Department of Commerce (the Department) finds that revocation of the antidumping duty orders on stilbenic optical brightening agents (stilbenic OBAs) from the People's Republic of China (PRC) and Taiwan would likely lead to continuation or recurrence of dumping, at the levels indicated in the “Final Results of Sunset Reviews” section of this notice.

DATES: Effective August 7, 2017.

FOR FURTHER INFORMATION CONTACT: Eli Lovely, AD/CVD Operations, Office IV, Enforcement and Compliance, International Trade Administration, U.S. Department of Commerce, 1401 Constitution Avenue NW., Washington, DC 20230; telephone: (202) 482-1593.

SUPPLEMENTARY INFORMATION:

Background

On May 10, 2012, the Department published the antidumping duty orders on stilbenic OBAs from the PRC and Taiwan.¹ On April 3, 2017, the Department initiated the first sunset reviews of the antidumping duty orders on stilbenic OBAs from the PRC and Taiwan pursuant to section 751(c) of the Tariff Act of 1930, as amended (the Act).² On April 18, 2017, the Department received a timely notice of intent to participate in the sunset reviews from Archroma, U.S., Inc. (Archroma), the descendant company of the petitioner in the original investigation, within the 15-day period specified in 19 CFR 351.218(d)(1)(i).³ On May 3, 2017, domestic interested parties filed a timely substantive response with the Department pursuant to 19 CFR 351.218(d)(3)(i).⁴ The Department did not receive a substantive response from any respondent interested party. As a result, pursuant to section 751(c)(3)(B) of the Act and 19 CFR 351.218(e)(1)(ii)(C)(2), the Department conducted expedited (120-day) sunset reviews of the Orders.

¹ See Certain Stilbenic Optical Brightening Agents From the People's Republic of China: Amended Final Determination of Sales at Less Than Fair Value and Antidumping Duty Order, 77 FR 27423 (May 10, 2012); and Certain Stilbenic Optical Brightening Agents From Taiwan: Amended Final Determination of Sales at Less Than Fair Value and Antidumping Duty Order, 77 FR 27419 (May 10, 2012) (Orders).

² See Initiation of Five-Year (Sunset) Reviews, 82 FR 16159 (April 3, 2017).

³ Berwick Offray LLC claimed interested party status as a manufacturer of the domestic like product, pursuant to section 771(9)(C) of the Act.

⁴ See Certain Stilbenic Optical Brightening Agents from China. Case No. A-570-972—Petitioner's Substantive Response, (May 3, 2017), and Certain Stilbenic Optical Brightening Agents from Taiwan, Case No. A-583-848—Petitioner's Substantive Response, (May 3, 2017).

Scope of the Orders

The merchandise subject to these Orders is final stilbenic OBA products, as well as intermediate products that are themselves triazinylaminostilbenes produced during the synthesis of stilbenic OBA products. These stilbenic OBAs are classifiable under subheading 3204.20.8000 of the Harmonized Tariff Schedule of the United States (HTS US), but they may also enter under subheadings 2933.69.6050, 2921.59.4000 and 2921.59.8090. The Decision Memorandum, which is hereby adopted by this notice, provides a full description of the scope of the Orders.⁵

⁵ See the “Issues and Decision Memorandum for the Expedited Sunset Review of the Antidumping Duty Order on Certain Stilbenic Optical Brightening Agents from the People's Republic of China and Taiwan” from Abdelali Elouaradia, Director, Office IV, Antidumping and Countervailing Duty Operations, to Gary Taverman Deputy Assistant Secretary for Antidumping and Countervailing Duty Operations, dated concurrently with, and hereby adopted by, this notice (Decision Memorandum).

Analysis of Comments Received

All issues raised in these sunset reviews are addressed in the Decision Memorandum. The issues discussed in the Decision Memorandum include the likelihood of continuation or recurrence of dumping and the magnitude of the margins likely to prevail if the Orders were to be revoked.

The Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Decision Memorandum can be accessed at http://enforcement.trade.gov/frn/. The signed Decision Memorandum and the electronic version of the Decision Memorandum are identical in content.

Final Results of Sunset Reviews

Pursuant to sections 751(c)(1) and 752(c)(1) and (3) of the Act, the Department determines that revocation of the Orders would likely lead to continuation or recurrence of dumping, and that the magnitude of the margin of dumping likely to prevail if the Orders are revoked would be up to 106.17 percent for the PRC and up to 6.19 percent for Taiwan.

Notification Regarding Administrative Protective Orders

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(c), and 777(i)(1) of the Act and 19 CFR 351.218 and 19 CFR 351.221(c)(5)(ii).

Dated: August 1, 2017.
Gary Taverman,
Deputy Assistant Secretary, for Antidumping and Countervailing Duty Operations, performing the non-exclusive functions and duties of the Assistant Secretary for Enforcement and Compliance.

Appendix—List of Topics Discussed in the Issues and Decision Memorandum

I. Summary

II. Background

III. Scope of the Orders

IV. History of the Orders

V. Legal Framework

VI. Discussion of the Issues

1. Likelihood of Continuation or Recurrence of Dumping

2. Magnitude of the Margins Likely to Prevail

VII. Final Results of Sunset Reviews

VIII. Recommendation

[FR Doc. 2017-16573 Filed 8-4-17; 8:45 am]

BILLING CODE 3510-DS-P